DEPARTMENT OF ENERGY

Office of Fossil Energy; Coal Policy Committee of the National Coal Council

AGENCY: Department of Energy.

ACTION: Notice of open meeting cancellation.

On April 6, 2004, the Department of Energy published a notice of open meeting announcing a May 6, 2004, meeting of the Coal Policy Committee (a subcommittee) of the National Coal Council 69 FR 18063. Today's notice is announcing the cancellation of that meeting; however, the meeting has been rescheduled on May 27, 2004, in Pittsburgh, PA. The meeting will be held at the Sheraton Station Square Hotel, Pittsburgh, PA from 9 a.m. to 12 noon. A revised tentative agenda follows:

Coal Policy Committee Report—Georgia Ricci Nelson

National Energy Legislation—The Honorable Melissa Hart, U.S. Congress

Carbon Sequestration—Gary Kaster, American Electric Power

Carbon Management and Hydrogen Economy—Dr. Ed Rubin, Carnegie-Mellon University

The Outlook for the Appalachian Coal Market—Tom Hoffman, Vice President, Consol Energy Company

Adjourn

For further information, please contact Robert Kane at (202) 586-4753 or Estelle W. Hebron at (202) 586-6837.

Issued in Washington, DC, on April 23, 2004.
Rachel M. Samuel,
Deputy Advisory Committee Management Officer.

[FR Doc. 04-9605 Filed 4-27-04; 8:45 am]

BILLING CODE 6450-01-P